DEPARTMENT OF COMMERCE

Foreign-Trade Zones Board

[Docket 16-2008]

Foreign-Trade Zone 39 - Dallas/Fort Worth, Texas, Application for Subzone, Dal-Tile Corporation, (Flooring and Home Furnishing Products Distribution), Sunnyvale and Mesquite, Texas

An application has been submitted to the Foreign-Trade Zones (FTZ) Board (the Board) by the Dallas/Fort Worth International Airport Board, grantee of FTZ 39, requesting special-purpose subzone status for the flooring and home furnishing products warehouse/distribution facilities of Dal-Tile Corporation (Dal-Tile), at sites in Sunnyvale and Mesquite, Texas. The application was submitted pursuant to the Foreign-Trade Zones Act, as amended (19 U.S.C. 81a-81u), and the regulations of the Board (15 CFR part 400). It was formally filed on March 7, 2008.

The proposed subzone is located at two sites in Dallas County, Texas: Site 1 (623,000 sq. ft. on 35 acres) - located at 199 Planters Road, Sunnyvale; and, Site 2 (396,750 sq. ft. on 24 acres) -- located at 510 N. Peachtree, Suite 200, Mesquite. The facilities will be used for quality control, shading, cleaning, repackaging, marking, warehousing and distribution of domestic and foreign-origin flooring and home furnishing products for both the U.S. market and for re-export. None of the activities which Dal-Tile is proposing to perform under zone procedures would constitute manufacturing or processing under the FTZ Board's regulations. The application indicates that FTZ procedures would be used to support Dal-Tile's Texas-based distribution activity in competition with facilities abroad.

FTZ procedures would exempt Dal-Tile from customs duty payments on foreign products that are re-exported (less than 5 percent of the facilities' shipments). On its domestic shipments, duty payments would be deferred until the products are entered for consumption. The company may also realize certain logistical benefits related to the use of direct delivery and weekly customs entry procedures. The application indicates that the savings from FTZ procedures would help improve the facilities' international competitiveness.

In accordance with the Board's regulations, a member of the FTZ staff has been designated examiner to investigate the application and report to the Board.

Public comment is invited from interested parties. Submissions (original and 3 copies) shall be addressed to the Board's Executive Secretary at the address below. The closing period for their receipt is May 19, 2008;. Rebuttal comments in response to material submitted during the foregoing period may be submitted during the subsequent 15-day period (to June 2, 2008).

A copy of the application will be available for public inspection at each of the following locations: U.S. Department of Commerce, Export Assistance Center, 808 Throckmorton St., Fort Worth, TX 76102-6315; and, Office of the Executive Secretary, Foreign-Trade Zones Board, Room 2111, U.S. Department of Commerce, 1401 Constitution Avenue, NW, Washington, D.C. 20230-0002. For further information, contact Diane Finver at Diane_Finver@ita.doc.gov or (202) 482-1367.

Dated: March 7, 2008.
Andrew McGilvray,
Executive Secretary.

[FR Doc. E8-5459 Filed 3-17-08; 8:45 am]

BILLING CODE 3510-DS-S